DEPARTMENT OF COMMERCE

National Oceanic and Atmospheric Administration

Agency Information Collection Activities; Submission to the Office of Management and Budget (OMB) for Review and Approval; Comment Request; West Coast Region Permit Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 15, 2021 during a 60-day comment period. This notice allows for an additional 30 days for public comments.

Agency: National Oceanic & Atmospheric Administration (NOAA), Commerce.

Title: West Coast Region Permit Family of Forms.

OMB Control Number: 0648-0204.

Form Number(s): None.

Type of Request: Regular submission (Revision and extension of a current information collection).

Number of Respondents: 1,459.

Average Hours per Response: Highly Migratory Species (Paper), New—20 minutes; Highly Migratory Species (Online), New—15 minutes; HMS Paper; Renew—10 minutes; HMS Online, Renew—5 minutes; CPS Renewal—10 minutes; CPS Transfer—30 minutes; LE DGN Renew—10 minutes; LE DGN Transfer—30 minutes; LE DGN Designation Request—30 minutes; LE DGN Exemption Request—30 minutes; Appeals—240 minutes; exempted fishing permit requests; 60 minutes; letters of acknowledgement—420 minutes; exempted educational activity authorization—420 minutes.

Total Annual Burden Hours: 198 hours.

Needs and Uses: This is a request for a revision and extension to the existing reporting requirements of the collection of information West Coast Region Family of Forms (0648-0204). In addition to the extension of West Coast Region Family of Forms (0648-0204) this request includes a revision to this collection. The revision will include the addition of Letters of Authorization (LOA) and Exempted Educational Activity Authorizations (EEAA). Currently, LOAs and EEAAs are part of ICR Scientific Research, Exempted Fishing, and Exempted Educational Activity Submissions (0648-0309).

Originally this information was collected under information collection 0648-0309 which included all the Exempted Fishing Permit's (EFPs), EEAAs, and LOAs for all NOAA regions. Beginning in November 2021, these collections will be maintained by each regional office. Therefore, this notice proposes to combine the relevant collection information from 0648-0309 with the West Coast Region's (WCR) information collection 0648-0204.

The WCR Permits Office administers permits required for persons participating in Federally-managed fisheries off the West Coast under the Magnuson-Stevens Fishery Conservation and Management act, 16 U.S.C. 1801 et seq. Section 303(b)(1) of the Magnuson-Stevens Act specifically authorizes the establishment of permit requirements. Almost all international, federal, state, and local fishery management authorities use permits as part of their management systems.

The Magnuson-Stevens Act (MSA) established regional fishery management councils, including the Pacific Fishery Management Council (Pacific Council), to develop fishery management plans (FMP) for fisheries in the U.S. exclusive economic zone (EEZ). These plans, if approved by the Secretary of Commerce, are implemented by Federal regulations, which are enforced by the National Marine Fisheries Service (NMFS) and the U.S. Coast Guard (USCG), in cooperation with State agencies to the extent possible. FMPs are intended to regulate fishing for stocks to prevent overfishing and achieve the optimum yield from the fisheries for the benefit of the U.S. The Pacific Council has prepared FMPs for the coastal pelagic species (CPS) fishery and Pacific Highly Migratory Species (HMS) off the U.S. West Coast. Each of these FMPs created permit programs which are administered by the WCR, NMFS.

There are two types of regulatory permits: Open access fishery permits and limited entry permits for selected fisheries. Open access permits are used in all fisheries where there are no specific limitations or eligibility criteria for entry to the fishery. Limited entry permits are used to prevent overcapitalization or address other management goals in the fishery and are issued to applicants for fishing activities that would otherwise be prohibited under a fisheries management plan. Applicants for both open access and limited entry permits are required to submit applications to obtain these permits but are not required to submit reports on their fishing activities under these permits.

Applicants for an EFP must submit written information that allows NOAA Fisheries and the Pacific Council to evaluate the proposed exempted fishing project activities and weigh the benefits and costs of the proposed activities. The Pacific Council makes a recommendation on each EFP application and for successful applicants, NOAA Fisheries issues the EFP which contains terms and conditions for the project including various reporting requirements. The information included in an application is specified at 50 CFR 600.745(b)(2) and the Pacific Council Operating Procedure #19. Permit holders are required to file preseason harvest plans, interim and/or final summary reports on the results of the project, and in some cases individual vessels and other permit holders are required to provide data reports (i.e., logbooks and/or catch reports). The results of EFPs are commonly used to explore ways to reduce effort on depressed stocks, encourage innovation and efficiency in the fishery, and provide access to constrained stocks by directly measuring the bycatch associated with current and proposed management measures. LOAs and EEAAs were historically collected under OMB control number 0648-0309. To reduce burden estimates, NMFS Headquarters proposes to move LOAs and EEAAs to their respective region's permit family-of-forms collections. NMFS may grant exemptions from fishery regulations for educational or other activities (e.g., using nonregulation gear). An EEAA is a permit issued by the Regional Office to accredited educational institutions that authorize, for educational purposes, the target or incidental harvest of species managed under a fisheries management plan or fishery regulations that would otherwise be prohibited. EEAAs are generally of limited scope and duration and authorize the take of the amount of fish necessary to demonstrate the lesson. Researchers are requested to submit reports of their scientific research activity after its completion. LOAs are required under Section 101(a)(5)(A) of the Marine Mammal Protection Act (MMPA) of 1972 for the incidental take of marine mammals during fisheries surveys and related research activities conducted by the Northwest Fisheries Science Center (NWFSC), NMFS. Management of certain marine mammals falls under the jurisdiction of the NMFS under the MMPA and Endangered Species Act (ESA) and mechanisms exist under both the MMPA and ESA to assess the effect of incidental takings and to authorize appropriate levels of take.

Affected Public: Business or other for-profit organizations.

Frequency: HMS permits—biennial; CPS—biennial; DGN LE—annual; EFP—biennial; DGN LE Designation Request—annual; DGN LE Exemption Request—annual; Appeals—annual; LOA—annual; EEAA—annual.

Respondent's Obligation: Required to obtain a permit. Keep a valid vessel permit while fishing and provide accurate data on forms.

Legal Authority: MSA, MMPA, ESA.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0204.

Sheleen Dumas,
Department PRA Clearance Officer, Office of the Chief Information Officer, Commerce Department.

[FR Doc. 2021-27381 Filed 12-16-21; 8:45 am]

BILLING CODE 3510-22-P